DEPARTMENT OF ENERGY

Federal Energy Regulatory Commission

Combined Notice of Filings #2

Take notice that the Commission received the following electric corporate filings:

Docket Numbers: EC25-17-000.

Applicants: Hardin Solar Energy III LLC,WEC Infrastructure LLC.

Description: Joint Application for Authorization Under Section 203 of the Federal Power Act of Hardin Solar Energy III LLC, et al.

Filed Date: 10/31/24.

Accession Number: 20241031-5390.

Comment Date: 5 p.m. ET 11/21/24.

Take notice that the Commission received the following electric rate filings:

Docket Numbers: ER10-2374-021; ER17-2059-012.

Applicants: Puget Sound Energy, Inc., Puget Sound Energy, Inc.

Description: Notice of Non-Material Change in Status of Puget Sound Energy, Inc.

Filed Date: 10/31/24.

Accession Number: 20241031-5396.

Comment Date: 5 p.m. ET 11/21/24.

Docket Numbers: ER10-2818-011; ER10-2806-011; ER18-1984-006.

Applicants: Big Level Wind LLC, TransAlta Energy Marketing (U.S.) Inc., TransAlta Energy Marketing Corporation.

Description: Notice of Change in Status of TransAlta Energy Marketing Corporation, et al.

Filed Date: 10/31/24.

Accession Number: 20241031-5401.

Comment Date: 5 p.m. ET 11/21/24.

Docket Numbers: ER10-2984-068.

Applicants: Merrill Lynch Commodities, Inc.

Description: Notice of Change in Status of Merrill Lynch Commodities, Inc.

Filed Date: 10/31/24.

Accession Number: 20241031-5402.

Comment Date: 5 p.m. ET 11/21/24.

Docket Numbers: ER13-55-027.

Applicants: Homer City Generation, L.P.

Description: Notice of Change in Status of Homer City Generation, L.P.

Filed Date: 10/31/24.

Accession Number: 20241031-5403.

Comment Date: 5 p.m. ET 11/21/24.

Docket Numbers: ER14-1219-016; ER10-1618-019; ER10-1631-021; ER10-1854-021; ER10-1892-024; ER10-2678-022; ER10-2729-016; ER10-2739-037; ER10-2744-022; ER11-3320-021; ER13-2316-019; ER14-19-020; ER16-1732-015; ER16-2405-015; ER16-2406-016; ER17-989-014; ER17-990-014; ER17-992-014; ER17-993-014; ER17-1946-014; ER18-95-011; ER20-660-011; ER20-1440-007; ER21-1133-004; ER22-425-004; ER22-1241-003; ER24-438-001; ER24-2139-001; ER25-25-001.

Applicants: Hunterstown Generation, LLC, Capon Bridge Solar, LLC, Jade Meadow LLC, REV Energy Marketing, LLC, Enerwise Global Technologies, LLC, Hummel Station, LLC, Yards Creek Energy, LLC, Bolt Energy Marketing, LLC, Buchanan Energy Services Company, LLC, Helix Ironwood, LLC, Bath County Energy, LLC, Springdale Energy, LLC, Gans Energy, LLC, Chambersburg Energy, LLC, Rockford Power, LLC, Rockford Power II, LLC, Aurora Generation, LLC, West Deptford Energy, LLC, Seneca Generation, LLC, LSP University Park, LLC, Riverside Generating Company, L.L.C., LS Power Marketing, LLC, Buchanan Generation, LLC, Troy Energy, LLC, Columbia Energy LLC, Doswell Limited Partnership, University Park Energy, LLC, Rolling Hills Generating, L.L.C., Armstrong Power, LLC.

Description: Notice of Change in Status of Armstrong Power, LLC, et al.

Filed Date: 10/30/24.

Accession Number: 20241030-5361.

Comment Date: 5 p.m. ET 11/20/24.

Docket Numbers: ER16-1720-030; ER10-2127-027.

Applicants: Invenergy TN LLC, Invenergy Energy Management LLC.

Description: Notice of Change in Status of Invenergy Energy Management LLC, et al.

Filed Date: 10/31/24.

Accession Number: 20241031-5389.

Comment Date: 5 p.m. ET 11/21/24.

Docket Numbers: ER21-1755-011; ER23-1642-008; ER24-280-001; ER14-2500-019.

Applicants: Newark Energy Center, LLC, Hartree-Meadowlands Newark, LLC, Stored Solar J&WE, LLC, Hartree Partners, LP.

Description: Notice of Change in Status of Hartree Partners, LP, et al.

Filed Date: 10/31/24.

Accession Number: 20241031-5395.

Comment Date: 5 p.m. ET 11/21/24.

Docket Numbers: ER21-2557-006; ER22-2662-006; ER22-2663-006; ER22-2664-006; ER23-1275-004; ER23-1276-004; ER24-2249-002.

Applicants: Aron Energy Prepay 41 LLC, Aron Energy Prepay 22 LLC, Aron Energy Prepay 21 LLC, Aron Energy Prepay 16 LLC, Aron Energy Prepay 15 LLC, Aron Energy Prepay 14 LLC, Aron Energy Prepay 5 LLC.

Description: Notice of Non-Material Change in Status of Aron Energy Prepay 5 LLC, et al.

Filed Date: 10/31/24.

Accession Number: 20241031-5388.

Comment Date: 5 p.m. ET 11/21/24.

Docket Numbers: ER21-2712-002.

Applicants: Heartland Generation Ltd.

Description: Notice of Non-Material Change in Status of Heartland Generation Ltd.

Filed Date: 10/31/24.

Accession Number: 20241031-5397.

Comment Date: 5 p.m. ET 11/21/24.

Docket Numbers: ER23-1585-002.

Applicants: Riverstart Solar Park III LLC.

Description: Notice of Non-Material Change in Status of Riverstart Solar Park III LLC.

Filed Date: 10/31/24.

Accession Number: 20241031-5399.

Comment Date: 5 p.m. ET 11/21/24.

Docket Numbers: ER24-1339-001; ER24-1340-001.

Applicants: EDPR Scarlet II BESS LLC, EDPR Scarlet II LLC.

Description: Notice of Non-Material Change in Status of EDPR Scarlet II LLC, et al.

Filed Date: 10/31/24.

Accession Number: 20241031-5400.

Comment Date: 5 p.m. ET 11/21/24.

Docket Numbers: ER24-1737-002; ER24-1739-001.

Applicants: Wolf Run Solar LLC, Hickory Solar LLC.

Description: Notice of Non-Material Change in Status of Hickory Solar LLC, et al.

Filed Date: 10/31/24.

Accession Number: 20241031-5398.

Comment Date: 5 p.m. ET 11/21/24.

Docket Numbers: ER24-2184-001.

Applicants: Southwest Power Pool, Inc.

Description: Tariff Amendment: Deficiency Response in ER24-2184—Revisions to Expand RTO to be effective 12/31/9998.

Filed Date: 11/4/24.

Accession Number: 20241104-5148.

Comment Date: 5 p.m. ET 11/25/24.

Docket Numbers: ER24-2185-001.

Applicants: Southwest Power Pool, Inc.

Description: Tariff Amendment: Deficiency Response in ER24-2185—Revisions to Expand RTO to be effective 12/31/9998.

Filed Date: 11/4/24.

Accession Number: 20241104-5153.

Comment Date: 5 p.m. ET 11/25/24.

Docket Numbers: ER25-313-001.

Applicants: Clyde Onsite Generation, LLC.

Description: Tariff Amendment: Amendment to Notice of Change in Status to be effective 11/1/2024.

Filed Date: 11/4/24.

Accession Number: 20241104-5127.

Comment Date: 5 p.m. ET 11/25/24.

Docket Numbers: ER25-314-001.

Applicants: Martinsville OnSite Generation, LLC.

Description: Tariff Amendment: Amendment to Notice to Change in Status to be effective 11/1/2024.

Filed Date: 11/4/24.

Accession Number: 20241104-5128.

Comment Date: 5 p.m. ET 11/25/24.

Docket Numbers: ER25-315-001.

Applicants: South River OnSite Generation, LLC.

Description: Tariff Amendment: Amendment to Notice of Change in Status to be effective 11/1/2024.

Filed Date: 11/4/24.

Accession Number: 20241104-5129.

Comment Date: 5 p.m. ET 11/25/24.

Docket Numbers: ER25-356-000.

Applicants: AEP Texas Inc.

Description: § 205(d) Rate Filing: AEPTX-Industrial Bravo Project (Isaac) 1st A&R Generator Interconnection Agr to be effective 10/14/2024.

Filed Date: 11/4/24.

Accession Number: 20241104-5114.

Comment Date: 5 p.m. ET 11/25/24.

Docket Numbers: ER25-357-000.

Applicants: Cheyenne Light, Fuel and Power Company.

Description: Tariff Amendment: Cancellation of Service Agreement No. 102 to be effective 3/23/2023.

Filed Date: 11/4/24.

Accession Number: 20241104-5130.

Comment Date: 5 p.m. ET 11/25/24.

Docket Numbers: ER25-358-000.

Applicants: PJM Interconnection, L.L.C.

Description: § 205(d) Rate Filing: Original GIA, Service Agreement No. 7390; AF1-143 to be effective 10/3/2024.

Filed Date: 11/4/24.

Accession Number: 20241104-5184.

Comment Date: 5 p.m. ET 11/25/24.

Docket Numbers: ER25-359-000.

Applicants: PJM Interconnection, L.L.C.

Description: § 205(d) Rate Filing: Amendment to ISA, Service Agreement No. 1438; L13 to be effective 1/4/2025.

Filed Date: 11/4/24.

Accession Number: 20241104-5187.

Comment Date: 5 p.m. ET 11/25/24.

Take notice that the Commission received the following electric securities filings:

Docket Numbers: ES25-15-000.

Applicants: Sun Pond, LLC.

Description: Application Under Section 204 of the Federal Power Act for Authorization to Issue Securities of Sun Pond, LLC.

Filed Date: 11/1/24.

Accession Number: 20241101-5303.

Comment Date: 5 p.m. ET 11/22/24.

Docket Numbers: ES25-16-000.

Applicants: Mountrail-Williams Electric Cooperative.

Description: Application Under Section 204 of the Federal Power Act for Authorization to Issue Securities of Mountrail-Williams Electric Cooperative.

Filed Date: 11/1/24.

Accession Number: 20241101-5305.

Comment Date: 5 p.m. ET 11/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 4, 2024.
Carlos D. Clay,
Acting Deputy Secretary.

[FR Doc. 2024-25992 Filed 11-7-24; 8:45 am]

BILLING CODE 6717-01-P